DEPARTMENT OF COMMERCE

Economic Development Administration

Notice of National Advisory Council on Innovation and Entrepreneurship Meeting

AGENCY: Economic Development Administration.

ACTION: Notice of an open meeting.

SUMMARY: The National Advisory Council on Innovation and Entrepreneurship (NACIE) will hold a public meeting on Thursday, December 3, 2015, 2:00-3:30 p.m. Eastern Time (ET) and Friday, December 4, 2015, 8:45 a.m.-12:00 p.m. ET. During this time, members will continue to work on various Council initiatives which include: innovation, entrepreneurship and workforce talent.

DATES:

Thursday, December 3, 2015

Time: 2:00-3:30 p.m. ET

Friday, December 4, 2015

Time: 8:45 a.m.-12:00 p.m. ET

ADDRESSES: Google, Inc., 25 Massachusetts Ave NW., #900, Washington, DC 20001.

Teleconference:

December 3-4, 2015

Dial-In: 1-800-369-1986

Passcode: 3758910

SUPPLEMENTARY INFORMATION: The Council was chartered on November 10, 2009 to advise the Secretary of Commerce on matters related to innovation and entrepreneurship in the United States. NACIE's overarching focus is recommending transformational policies to the Secretary that will help U.S. communities, businesses, and the workforce become more globally competitive. The Council operates as an independent entity within the Office of Innovation and Entrepreneurship (OIE), which is housed within the U.S. Commerce Department's Economic Development Administration. NACIE members are a diverse and dynamic group of successful entrepreneurs, innovators, and investors, as well as leaders from nonprofit organizations and academia.

The purpose of this meeting is to discuss the Council's planned work initiatives in three focus areas: Workforce/talent, entrepreneurship, and innovation. The final agenda will be posted on the NACIE Web site at http://www.eda.gov/oie/nacie/ prior to the meeting. Any member of the public may submit pertinent questions and comments concerning the Council's affairs at any time before or after the meeting. Comments may be submitted to the Office of Innovation and Entrepreneurship at the contact information below. Those unable to attend the meetings in person but wishing to listen to the proceedings can do so through a conference call line: 1-800-369-1986, passcode: 3758910 for both meeting days on December 3rd and December 4th. Copies of the meeting minutes will be available by request within 90 days of the meeting date.

FOR FURTHER INFORMATION CONTACT: Julie Lenzer, Director, Office of Innovation and Entrepreneurship, Room 78018, 1401 Constitution Avenue NW., Washington, DC 20230; email: NACIE@doc.gov; telephone: 202-482-8001; fax: 202-273-4781. Please reference “NACIE December 3rd-4th Meeting” in the subject line of your correspondence.

Dated: November 2, 2015.
Julie Lenzer,
Director, Office of Innovation and Entrepreneurship.

[FR Doc. 2015-28320 Filed 11-5-15; 8:45 am]

BILLING CODE 3510-WH-P